DEPARTMENT OF HOMELAND SECURITY

Coast Guard

[CGD07-04-092]

Reorganization of Group Miami and MSO Miami; Implementation of Sector Miami

AGENCY: Coast Guard, DHS.

ACTION: Notice of organizational change.

SUMMARY: The Coast Guard announces the consolidation of Group Miami and Marine Safety Office Miami into one command, Sector Miami. The Sector Miami Commanding Officer has the authority, responsibility and missions of the prior Group Commander and COTP Miami. The Coast Guard has established a continuity of operations whereby all previous practices and procedures will remain in effect until superseded by an authorized Coast Guard official and/or document.

DATES: This notice is effective August 4, 2004.

ADDRESSES: Documents indicated in this preamble as being available in the docket are part of docket CGD07-04-092 and are available for inspection or copying at District 7 Resources, 9th Floor, 909 SE 1st Avenue, Miami, FL 33131 between 7:30 a.m. and 4:30 p.m., Monday through Friday, except Federal Holidays.

FOR FURTHER INFORMATION CONTACT: Lieutenant Carlos A. Cuesta, District 7 Resources Program at 305-415-6706.

SUPPLEMENTARY INFORMATION:

Discussion of Notice

Sector Miami is located at Causeway Island, Miami Beach, FL and contains a single Command Center. Sector Miami is composed of a Response Command, Prevention Command, and Logistics Command. All existing missions and functions performed by Group and MSO Miami have been realigned under this new organizational structure as of July 12, 2004 and Group Miami and MSO Miami no longer exist as organizational entities.

Sector Miami is responsible for all Coast Guard missions in the following zone: “the boundary of the Miami Marine Inspection Zone and Captain of the Port zone starts at the eastern Florida coast at 28° 00′ N. Latitude; thence proceeds west to 28° 00′ N. Latitude, 81° 30′ W. Longitude; thence south to the Collier County north boundary; thence following the Collier County boundary to the intersection with Broward County, thence south along the Collier County east boundary, continuing south along the Dade County boundary encompassing all of Dade county. The offshore area of the Miami Captain of the Port zone includes that portion of the western North Atlantic ocean area bounded on the north by 28° 00′ N. Latitude from the coast to the outermost extent of the exclusive economic zone and bounded on the east by the outermost extent of the exclusive economic zone; and on the south a line bearing 111° T from the shoreline at 25° 25′ N. Latitude, 80° 20′ W. Longitude.” The following chart depicts this area.

BILLING CODE 4910-15-P

BILLING CODE 4910-15-C

Sector Miami may also be designated by the Seventh District Commander as mission coordinator for search and rescue and law enforcement operations beyond the exclusive economic zone.

The Sector Miami Commander is vested with all the rights, responsibilities, duties, and authority of a Group Commander and Commanding Officer, Marine Safety Office, as provided for in Coast Guard regulations, and is the successor in command to the Commanding Officer, Marine Safety Office Miami and the Commander, Group Miami. The Sector Miami Commander is designated: (a) Captain of the Port (COTP) for the Miami COTP zone; (b) Federal Maritime Security Coordinator (FMSC); (c) Federal On Scene Coordinator (FOSC) for the Miami COTP zone, consistent with the National Contingency Plan; (d) Officer In Charge of Marine Inspection (OCMI) for the Miami Marine Inspection Zone and, (e) Search and Rescue Mission Coordinator (SMC). The Deputy Sector Commander is designated alternate COTP, FMSC, FOSC, OCMI and SMC. A continuity of operations order has been issued providing that all previous Group Miami and MSO Miami practices and procedures will remain in effect until superseded by Commander, Sector Miami. This continuity of operations order addresses existing COTP regulations, orders, directives and policies. Also, Sector Miami provides contingency response and marine inspection support for newly implemented Sector Key West.

The following information is a list of updated command titles, addresses and points of contact to facilitate requests from the public and assist with entry into security or safety zones:

Name: Sector Miami.

Address: Commander, U.S. Coast Guard Sector Miami, 100 MacArthur Causeway, Miami Beach, FL 33139-5101.

Contact: General Number, (305) 535-8709, Sector Commander: CAPT J. Maes, (305) 535-4301, Deputy Sector Commander: CAPT L. Slein, (305) 535-4302.

Commander Prevention Command: (305) 535-8708, Commander Response Command: (305) 535-4302, Commander Logistics Command: (305) 535-8767.

Dated: July 26, 2004.
D. B. Peterman,
Rear Admiral, U. S. Coast Guard, Commander, Seventh Coast Guard District.

[FR Doc. 04-17686 Filed 8-3-04; 8:45 am]

BILLING CODE 4910-15-P